DEPARTMENT OF THE INTERIOR

Bureau of Land Management

[LLCA9300000-LVFL58740000-LXSS003B0000-CACA 50075]

Notice of Realty Action: Competitive Sale of Public Lands in San Bernardino County, California

Correction

In notice document E8-29571 beginning on page 76043 in the issue of Monday, December 15, 2008, make the following correction:

On page 76044, in the first column, in the first paragraph, in the eighth line “January 5, 2009” should read “December 15, 2010”.

[FR Doc. Z8-29571 Filed 1-7-09; 8:45 am]

BILLING CODE 1505-01-D